DEPARTMENT OF THE INTERIOR

Bureau of Land Management

[MTM 037720 and MTM 41231]

Public Land Order No. 7635; Partial Revocation of Executive Order Dated April 19, 1912, and Public Land Order No. 2459; Montana

AGENCY: Bureau of Land Management, Interior.

ACTION: Public land order.

SUMMARY: This order partially revokes an Executive Order and a Public Land Order insofar as they affect 2.2 acres of National Forest System land withdrawn for the Bureau of Land Management's Power Site Reserve No. 184 and the Forest Service's Hebgen Cabin Tract. This order also opens the land to exchange.

EFFECTIVE DATE: May 31, 2005.

FOR FURTHER INFORMATION CONTACT: Sandra Ward, BLM Montana State Office, P.O. Box 36800, Billings, Montana 59107, 406-896-5052 or Scott Bixler, U.S. Forest Service, Region 1 Office, P.O. Box 7669, Missoula, Montana 59807, 406-329-3655.

SUPPLEMENTARY INFORMATION: The U.S. Forest Service and Bureau of Land Management have determined that the withdrawals are no longer needed on the land described in this order and partial revocation is needed to facilitate a pending land exchange.

Order

By virtue of the authority vested in the Secretary of the Interior by Section 204 of the Federal Land Policy and Management Act of 1976, 43 U.S.C. 1714 (2000), it is ordered as follows:

1. The Executive Order dated April 19, 1912, which withdrew National Forest System land for the Bureau of Land Management's Power Site Reserve No. 184, and Public Land Order No. 2459, which withdrew National Forest System land for the Forest Service's Hebgen Cabin Tract, are hereby revoked insofar as they affect the following described land, which currently is described as a parcel within lot 5 of T. 11 S., R. 3 E., but when surveyed will read:

Gallatin National Forest

Principal Meridian, Montana

T. 11 S., R. 3 E.,

Sec. 15, lot 7.

The area described contains 2.2 acres in Gallatin County.

2. At 9 a.m. on May 31, 2005, the above-described land is hereby opened and made available for exchange under the Acts of March 20, 1922, as amended, 16 U.S.C. 485, 486 (2000), January 30, 1929, 16 U.S.C. 486c (2000), October 21, 1976, as amended, 43 U.S.C. 1715-1717 (2000), and August 20, 1988, 43 U.S.C. 1716, 751 (2000).

Dated: April 29, 2005.
Rebecca W. Watson,
Assistant Secretary—Land and Minerals Management.

[FR Doc. 05-9688 Filed 5-13-05; 8:45 am]

BILLING CODE 3410-11-P